DEPARTMENT OF JUSTICE

[OMB 1140-0117]

Agency Information Collection Activities; Proposed eCollection eComments Requested; Financial Responsibility Acknowledgement—ATF Form 8620.28

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until October 24, 2024.

FOR FURTHER INFORMATION CONTACT: If you have comments especially on the estimated public burden or associated response time, suggestions, or need a copy of the proposed information collection instrument with instructions or additional information, please contact: Jacklyn Wiltshire/Taiya Jarrett, Personnel Security Division, by email at Jaclyn.Wiltshire@atf.gov, or telephone at 202-648-9260.

SUPPLEMENTARY INFORMATION: The proposed information collection was previously published in the Federal Register on Thursday, July 18, 2024 at 89 FR 58416, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0117. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Financial Responsibility Acknowledgement.

3. Agency form number, if any, and the applicable component of the Department of Justice sponsoring the collection: ATF Form 8620.28.

Component: Bureau of Alcohol, Tobacco, Firearms and Explosives, U.S. Department of Justice.

4. Affected public who will be asked or required to respond, as well as a brief abstract: Affected Public: Individuals or households.

Abstract: The proposed information collection (IC) OMB #1140-0117—Financial Responsibility Acknowledgement—ATF Form 8620.28 (previously titled `Financial History Questionnaire') is being revised to remove the requirement for a candidate to provide specific financial obligation information to ATF and replace it with an acknowledgment that the candidate understands the financial obligation information provided on the form, acknowledges that ATF will conduct a review of the candidate's financial records, and agrees to provide proof of resolution to ATF if requested to do so.

5. Obligation to Respond: Voluntary.

6. Total Estimated Number of Respondents: 2,000 respondents.

7. Estimated Time per Respondent: 3 minutes.

8. Frequency: Once annually.

9. Total Estimated Annual Time Burden: 100 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: September 19, 2024.
Darwin Arceo,
Department Clearance Officer for PRA, U.S. Department of Justice.

[FR Doc. 2024-21816 Filed 9-23-24; 8:45 am]

BILLING CODE 4410-FY-P